DEPARTMENT OF COMMERCE

National Oceanic and Atmospheric Administration

[RTID 0648-XE097]

Pacific Fishery Management Council; Public Meeting

AGENCY: National Marine Fisheries Service (NMFS), National Oceanic and Atmospheric Administration (NOAA), Commerce.

ACTION: Notice of public meeting.

SUMMARY: The Pacific Fishery Management Council's (Pacific Council) Ad-hoc Sacramento River Fall Chinook (SRFC) Workgroup (Workgroup) will hold a 2-day online meeting in August 2024 and a 1-day online meeting in September 2024.

DATES: The 2-day August online meeting will be held on Wednesday, August 7 and Thursday, August 8, 2024 and the 1-day September meeting will be held on Tuesday, September 3, 2024. Meetings will run from 9 a.m. until 3 p.m. Pacific Time or when business for the day concludes.

ADDRESSES: These meetings will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Angela Forristall, Staff Officer, Pacific Council; telephone: (503) 820-2419.

SUPPLEMENTARY INFORMATION: The primary purpose of the meetings is to address guidance received from the Pacific Council at their June 2024 meeting. At the August meetings, the Workgroup will likely focus on developing an outline for the Workgroup's report to the Pacific Council in November 2024 that considers new or updated tools for SRFC management. At the September meeting, the Workgroup will likely continue to develop the report and may discuss potential 2024 Salmon Methodology Review topics relevant to their tasking. Additional discussions may include, but are not limited to, future meetings, workload planning, and upcoming Council agenda items.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting dates.

Authority: 16 U.S.C. 1801 et seq.

Dated: July 15, 2024.
Rey Israel Marquez,
Acting Deputy Director, Office of Sustainable Fisheries, National Marine Fisheries Service.

[FR Doc. 2024-15877 Filed 7-18-24; 8:45 am]

BILLING CODE 3510-22-P